ENVIRONMENTAL PROTECTION AGENCY

40 CFR Part 131

[EPA-HQ-OW-2010-0606; FRL-9901-25-OW]

Water Quality Standards Regulatory Clarifications Proposed Rule; Public Meeting and Public Webinars

AGENCY: Environmental Protection Agency (EPA).

ACTION: Announcement of public meeting and public webinars.

SUMMARY: The Environmental Protection Agency (EPA) is announcing one public meeting and two public webinars to be held for the proposed rule “Water Quality Standards Regulatory Clarifications,” which was published separately in the Federal Register (September 4, 2013).

DATES: The public meeting will be held in Washington, DC on October 23, 2013 from 10:00 a.m. to 3:00 p.m. Eastern. The two public webinars will be held on September 24, 2013 from 1:00 p.m. to 3:00 p.m. Eastern and November 14, 2013 from 1:00 p.m. to 3:00 p.m. Eastern. The comment period for the proposed rulemaking will end on December 3, 2013. To register for the public meeting or either public webinar, please visit: http://www.tetratech-ffx.com/wqsregs/public/ or contact the person listed under FOR FURTHER INFORMATION CONTACT. Information regarding the time of the public meeting and public webinars is also listed below in SUPPLEMENTARY INFORMATION.

ADDRESSES: To register for the public meeting or either public webinar, please visit: http://www.tetratech-ffx.com/wqsregs/public/. You will receive an email confirmation after your registration has been submitted. Information about the public meeting and webinars can also be found at the EPA Web site for the rulemaking at, http://water.epa.gov/lawsregs/lawsguidance/wqs_index.cfm, under the “Current Outreach” section.

The public meeting will be held at the Smithsonian National Zoological Park in the Visitor Center Auditorium. The Zoo address is 3001 Connecticut Avenue NW. in Washington, DC. The Visitor Center Auditorium is located at the Connecticut Avenue entrance to the zoo. More information about travel to the Zoo is available at http://nationalzoo.si.edu/Visit/gettingtozoo.cfm.

The public webinars will be held using Adobe® Connect. Following registration and within one week of the scheduled webinars, you will receive an email with information for accessing the webinar on the day of the event.

The proposed rule was published separately in the Federal Register and a complete set of documents related to the proposal are available for public inspection at the EPA Docket Center, located at 1301 Constitution Avenue NW., Room 3334, Washington, DC between 8:30 a.m. and 4:30 p.m., Monday through Friday, excluding legal holidays. A reasonable fee may be charged for copying. Documents are also available through the electronic docket system at http://www.regulations.gov under Docket ID No. EPA-HQ-OW-2010-0606. The EPA Web site for the rulemaking can be found at: http://water.epa.gov/lawsregs/lawsguidance/wqs_index.cfm.

FOR FURTHER INFORMATION CONTACT: Janita Aguirre, EPA Headquarters, Office of Water, Office of Science and Technology, at 202-566-1860 or email address: WQSRegulatoryClarifications@epa.gov.

SUPPLEMENTARY INFORMATION: The proposal for which EPA is holding the public meeting and public webinars has been published separately in the Federal Register (78 FR 54517; September 4, 2013). In the proposed rulemaking, EPA is proposing changes to the federal water quality standards (WQS) regulation at 40 CFR Part 131 which helps implement the Clean Water Act in order to improve effectiveness in restoring and maintaining the chemical, physical, and biological integrity of the nation's waters. The proposed rule addresses the following key program areas: Administrator's determinations that new or revised WQS are necessary, designated uses, triennial reviews, antidegradation, variances to WQS, and compliance schedule authorizing provisions. Once final, the proposed rule will lead to improved water quality standard development, implementation and compliance as well as improving the ability of water systems to adapt and respond to the impacts of climate change.

EPA will discuss the contents of the proposed rule during the webinars and meeting and will provide the opportunity for interested parties to ask clarifying questions prior to the close of the comment period. These clarifying questions or any public views expressed during the webinars and meeting will not be considered formal comments and will not be recorded for inclusion in the official administrative record. If anyone wishes their comments to be considered formal comment and want a formal response from EPA, they must submit their comments on the proposed rule to the associated docket (Docket ID No. EPA-HQ-OW-2010-0606) by one of the following methods: Electronically, by mail, by facsimile, or through hand delivery/courier. Please refer to the notice of proposed rulemaking for the addresses and detailed instructions for submitting written comments. Written comments must be received by the December 3, 2013.

Public Meeting: The public meeting will be open to all stakeholders interested in the rule. The meeting will be held on Wednesday, October 23, 2013 from 10:00 a.m. until 3:00 p.m. Eastern. The meeting will be held at the Smithsonian National Zoological Park's Visitor Center Auditorium, 3001 Connecticut Avenue NW., Washington, DC. If you are interested in attending the public meeting, EPA prefers that you pre-register at http://www.tetratech-ffx.com/wqsregs/public/ by October 21, 2013. EPA will prepare a pre-registration list to streamline the check-in process on the day of the public meeting. If you choose not to pre-register, you will be asked to provide the following information on a sign-in sheet at the public meeting: Name, affiliation, address, email address and telephone number.

Public Webinars: The public webinars will be open to all stakeholders interested in the rule. The public webinars will be held on Tuesday, September 24, 2013 from 1:00 p.m. to 3:00 p.m. Eastern and Thursday, November 14, 2013 from 1:00 p.m. to 3:00 p.m. Eastern using Adobe® Connect. However, there is a limitation of 500 participants for each webinar. In order to ensure access to the webinar of choice, interested individuals should register in advance following instructions on the Internet at http://www.tetratech-ffx.com/wqsregs/public/. Although you may register at any time prior to the session of your choice, EPA prefers that you register at least three days in advance. You will receive an email confirmation after your registration has been submitted. Following registration and within one week of the scheduled webinars, you will receive an email with information for accessing the webinar on the day of the event. The agenda and resource material will be identical for the two public webinars. You do not need to attend both sessions. If you do not have Internet access, please contact the person named in the FOR FURTHER INFORMATION CONTACT section above.

Other EPA Outreach: Throughout the comment period, EPA expects to conduct outreach with additional stakeholders as well as state and tribal governments. This outreach includes discussions and consultation with federally-recognized Indian tribes, consistent with Executive Order 13175 (Tribal Consultation) and outreach with state water quality program officials as co-regulators.

Comment Period: The comment period will remain open until December 3, 2013.

How can I get copies of this document and other related information?

The EPA has established a docket for this action under Docket ID No. EPA-HQ-OW-2010-0606. The EPA has also developed a Web site for the proposed rulemaking at: http://water.epa.gov/lawsregs/lawsguidance/wqs_index.cfm. Please refer to the notice of proposed rulemaking for detailed information on accessing information related to the proposal.

Dated: September 16, 2013.
Elizabeth Southerland,
Director, Office of Science and Technology.

[FR Doc. 2013-23103 Filed 9-23-13; 8:45 am]

BILLING CODE 6550-50-P